DEPARTMENT OF ENERGY

Federal Energy Regulatory Commission

Combined Notice of Filings

Take notice that the Commission has received the following Natural Gas & Oil Pipeline Rate and Refund Report filings:

Filings Instituting Proceedings

Docket Numbers: RP23-734-000.

Applicants: Southern Star Central Gas Pipeline, Inc.

Description: § 4(d) Rate Filing: Vol. 2—Neg and Conforming Rate Agreements—Tenaska PLS to be effective 5/1/2023.

Filed Date: 4/28/23.

Accession Number: 20230428-5253.

Comment Date: 5 p.m. ET 5/10/23.

Docket Numbers: RP23-735-000.

Applicants: El Paso Natural Gas Company, L.L.C.

Description: § 4(d) Rate Filing: Negotiated Rate Agreement Update (Hartree May 2023) to be effective 5/1/2023.

Filed Date: 4/28/23.

Accession Number: 20230428-5350.

Comment Date: 5 p.m. ET 5/10/23.

Docket Numbers: RP23-736-000.

Applicants: Ruby Pipeline, L.L.C.

Description: § 4(d) Rate Filing: RP 2023-04-28 FL&U and EPC Rate Adjustment to be effective 6/1/2023.

Filed Date: 4/28/23.

Accession Number: 20230428-5361.

Comment Date: 5 p.m. ET 5/10/23.

Docket Numbers: RP23-737-000.

Applicants: Ruby Pipeline, L.L.C.

Description: § 4(d) Rate Filing: RP 2023-04-28 Negotiated Rate Agreement to be effective 6/1/2023.

Filed Date: 4/28/23.

Accession Number: 20230428-5363.

Comment Date: 5 p.m. ET 5/10/23.

Docket Numbers: RP23-738-000.

Applicants: Tennessee Gas Pipeline Company, L.L.C.

Description: § 4(d) Rate Filing: Volume No. 2—Mex Gas SP384402 to be effective 5/1/2023.

Filed Date: 4/28/23.

Accession Number: 20230428-5375.

Comment Date: 5 p.m. ET 5/10/23.

Docket Numbers: RP23-740-000.

Applicants: East Cheyenne Gas Storage, LLC.

Description: Compliance filing: ECGS 2023-04-28 Annual Purchases and Sales Report to be effective N/A.

Filed Date: 4/28/23.

Accession Number: 20230428-5391.

Comment Date: 5 p.m. ET 5/10/23.

Docket Numbers: RP23-741-000.

Applicants: Discovery Gas Transmission LLC.

Description: Annual Imbalance Cash Out Report of Discovery Gas Transmission LLC.

Filed Date: 4/28/23.

Accession Number: 20230428-5435.

Comment Date: 5 p.m. ET 5/10/23.

Docket Numbers: RP23-742-000.

Applicants: Southeast Supply Header, LLC.

Description: § 4(d) Rate Filing: 2023 SESH TUP/SBA Annual Filing to be effective 6/1/2023.

Filed Date: 5/1/23.

Accession Number: 20230501-5014.

Comment Date: 5 p.m. ET 5/15/23.

Docket Numbers: RP23-743-000.

Applicants: Alliance Pipeline L.P.

Description: § 4(d) Rate Filing: Negotiated Rates—Various May 1 2023 Releases to be effective 5/1/2023.

Filed Date: 5/1/23.

Accession Number: 20230501-5024.

Comment Date: 5 p.m. ET 5/15/23.

Docket Numbers: RP23-744-000.

Applicants: Maritimes & Northeast Pipeline, L.L.C.

Description: § 4(d) Rate Filing: Negotiated Rates—Northern to Direct Energy 2848 eff 5-1-23 to be effective 5/1/2023.

Filed Date: 5/1/23.

Accession Number: 20230501-5083.

Comment Date: 5 p.m. ET 5/15/23.

Docket Numbers: RP23-745-000.

Applicants: Texas Eastern Transmission, LP.

Description: § 4(d) Rate Filing: Negotiated Rates—Various Releases eff 5-1-23 to be effective 5/1/2023.

Filed Date: 5/1/23.

Accession Number: 20230501-5100.

Comment Date: 5 p.m. ET 5/15/23.

Docket Numbers: RP23-746-000.

Applicants: NEXUS Gas Transmission, LLC.

Description: § 4(d) Rate Filing: Negotiated Rates—Various Releases eff 5-1-2023 to be effective 5/1/2023.

Filed Date: 5/1/23.

Accession Number: 20230501-5116.

Comment Date: 5 p.m. ET 5/15/23.

Docket Numbers: RP23-747-000.

Applicants: Rover Pipeline LLC.

Description: § 4(d) Rate Filing: Summary of Negotiated Rate Capacity Release Agreements 5-1-23 to be effective 5/1/2023.

Filed Date: 5/1/23.

Accession Number: 20230501-5123.

Comment Date: 5 p.m. ET 5/15/23.

Docket Numbers: RP23-748-000.

Applicants: Sabal Trail Transmission, LLC.

Description: § 4(d) Rate Filing: 2023 TUP/SBA Annual Filing to be effective 6/1/2023.

Filed Date: 5/1/23.

Accession Number: 20230501-5132.

Comment Date: 5 p.m. ET 5/15/23.

Docket Numbers: RP23-749-000.

Applicants: MountainWest Overthrust Pipeline, LLC.

Description: § 4(d) Rate Filing: Modifications to Priority of Service Procedures to be effective 7/1/2023.

Filed Date: 5/1/23.

Accession Number: 20230501-5133.

Comment Date: 5 p.m. ET 5/15/23.

Docket Numbers: RP23-750-000.

Applicants: Equitrans, L.P.

Description: § 4(d) Rate Filing: Negotiated Rate Capacity Release Agreements—5/1/2023 to be effective 5/1/2023.

Filed Date: 5/1/23.

Accession Number: 20230501-5210.

Comment Date: 5 p.m. ET 5/15/23.

Docket Numbers: RP23-751-000.

Applicants: Northern Border Pipeline Company.

Description: Compliance filing: Company Use Gas Adjustment Annual Report to be effective N/A.

Filed Date: 5/1/23.

Accession Number: 20230501-5214.

Comment Date: 5 p.m. ET 5/15/23.

Docket Numbers: RP23-752-000.

Applicants: Gulf South Pipeline Company, LLC.

Description: § 4(d) Rate Filing: Cap Rel Neg Rate Agmt (Osaka 46429 to Texla 56308) to be effective 5/1/2023.

Filed Date: 5/1/23.

Accession Number: 20230501-5215.

Comment Date: 5 p.m. ET 5/15/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2023.
Debbie-Anne A. Reese,
Deputy Secretary.

[FR Doc. 2023-09604 Filed 5-4-23; 8:45 am]

BILLING CODE 6717-01-P